DEPARTMENT OF DEFENSE

Defense Intelligence Agency

[DoD-2006-OS-0100]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on August 17, 2006 unless comments are received that would result in a contrary determination.

ADDRESSES: Freedom of Information Officer, Defense Intelligence Agency (DAN-1A), 200 MacDill Blvd, Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 12, 2006.
L.M. Bynum,
OSD Federal Register Liaison Officer, Department of Defense.

LDIA 0271

System name:

Investigations and Complaints (February 22, 1993, 58 FR 10613).

Changes

* * * * *

System Location:

Delete zip code and replace with: “20340-5100”.

* * * * *

Authority for maintenance of the system:

Delete entry and replace with: “5 U.S.C. 301, Departmental Regulations; Pub. L. 95-452, the Inspector General Act of 1978; DoD Instruction 5106.3, Inspector General, DoD Inspection Program; DIA Manual 40-1, Investigations, Audits and Inspections—IG Activities; and EO 9397 (SSN).”

* * * * *

Storage:

Delete entry and replace with: “Paper records in file folders and electronically in a database.”

* * * * *

Safeguards:

Delete entry and replace with: “Records are maintained in a building protected by security guards and are stored in vaults, safes or locked cabinets and are accessible only to authorized personnel who are properly screened, cleared and trained in the protection of privacy information. Electronic records are maintained on a classified and password protected system.”

* * * * *

System Manager(s) and Address:

Delete zip code and replace with: “20340-5100”.

Notification Procedure:

Delete entry and replace with: “Individuals seeking to determine whether information about themselves is contained in this system of records should address written inquiries to the Freedom of Information Act Office (DAN-1A/FOIA), Defense Intelligence Agency, 200 MacDill Blvd, Washington, DC 20340-5100.

Individual should provide their full name, current address, telephone number and Social Security Number.”

Record Access Procedures:

Delete entry and replace with: “Individuals seeking access to information about themselves contained in this system should address written inquiries to the Freedom of Information Act Office (DAN-1A/FOIA), Defense Intelligence Agency, 200 MacDill Blvd, Washington, DC 20340-5100.

Individual should provide their full name, current address, telephone number and Social Security Number”.

Contesting Record Procedures:

Delete entry and replace with: “DIA's rules for accessing records, for contesting contents and appealing initial agency determinations are published in DIA Regulation 12-12 “Defense Intelligence Agency Privacy Program”; 32 CFR part 319—Defense Intelligence Agency Privacy Program; or may be obtained from the system manager.”

* * * * *

LDIA 0271

System name:

Investigations and Complaints.

System location:

Defense Intelligence Agency, Washington, DC 20340-5100.

Categories of individuals covered by the system:

Current and former civilian and military personnel who filed a complaint acted upon by the Inspector General, DIA, or who were the subject of an Inspector General, DIA, investigation or inquire.

Categories of records in the system:

Documents relating to the organization, planning and execution of internal/external investigations and records created as a result of investigations conducted by the Office of the Inspector General, including reports of investigations, records of action taken and supporting papers. These files include investigations of both organizational elements and individuals.

Authority for maintenance of the system:

5 U.S.C. 301, Departmental Regulations; Public Law 95-452, the Inspector General Act of 1978; DoD Instruction 5106.3, Inspector General, DoD Inspection Program; DIA Manual 40-1, Investigations, Audits and Inspections—IG Activities; and EO 9397 (SSN).

Purpose(s):

Information is collected to determine the facts and circumstances surrounding a complaint filed with the office of the Inspector General by a Defense Intelligence Agency employee or to determine the facts and circumstances of matters under Inspector General inquiry of investigation. Information collected by the Inspector General is for the purpose of providing the Director, DIA, with a sound basis for just and intelligence action. Records are used as a basis for recommending actions to the Command Element and other DIA elements. Depending upon the nature of the information it may be passed to appropriate elements within the DoD, the Department of State, Department of Justice, Central Intelligence Agency and to other appropriate Government agencies.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DIA's compilation of systems of records notices apply to this system.

Policies and practices for storing, retrieving, accessing, retaining, and disposing of records in the system:

Storage:

Paper records in file folders and electronically in a database.

Retrievability:

Filed by subject matter and case number.

Safeguards:

Records are maintained in a building protected by security guards and are stored in vaults, safes or locked cabinets and are accessible only to authorized personnel who are properly screened, cleared and trained in the protection of privacy information. Electronic records are maintained on a classified and password protected system.

Retention and disposal:

Records are held in current files for 5 years after completion and adjudication of all actions and retired to the Washington National Records Center. Investigations will be offered to the National Archives and complaints destroyed when 20 years old.

System manager(s) and address:

Inspector General's Office, Defense Intelligence Agency, Washington, DC 20340-5100.

Notification procedure:

Individuals seeking to determine whether information about themselves is contained in this system of records should address written inquiries to the Freedom of Information Act Office (DAN-1A/FOIA), Defense Intelligence Agency, 200 MacDill Blvd, Washington, DC 20340-5100.

Individual should provide their full name, current address, telephone number and Social Security Number.

Record access procedures:

Individuals seeking access to information about themselves contained in this system should address written inquiries to the Freedom of Information Act Office (DAN-1A/FOIA), Defense Intelligence Agency, 200 MacDill Blvd, Washington, DC 20340-5100.

Individual should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

Personal interviews, personal history statements, abstracts or copies of pertinent medical records, abstracts from personnel records, results of tests, physician's notes, observations from employee's behavior, related notes, papers from counselors and/or clinical directors.

Exemptions claimed for the system:

Parts of this system may be exempt under 5 U.S.C. 552a(k)(2), (k)(5), or (k)(7), as applicable.

An exemption rule for this record system has been promulgated in accordance with the requirements of 5 U.S.C. 553(b)(1), (2), and (3), (c) and (e) and published in 32 CFR part 319. For more information contact the system manager.

[FR Doc. 06-6268 Filed 7-17-06; 8:45 am]

BILLING CODE 5001-06-M